DEPARTMENT OF DEFENSE

Department of the Navy

Notice of Public Hearings for the Draft Supplemental Environmental Impact Statement (DSEIS) for the Introduction of F/A-18 E/F (Super Hornet) Aircraft to the East Coast of the United States (Construction and Operation of an Outlying Landing Field)

AGENCY: Department of the Navy, DoD.

ACTION: Notice.

SUMMARY: The Department of the Navy (DON) has prepared and filed with the U.S. Environmental Protection Agency (EPA) a DSEIS to provide additional analysis of the potential environmental consequences associated with the construction and operation of an Outlying Landing Field (OLF) to support Field Carrier Landing Practice (FCLP) operations of F/A-18 E/F (Super Hornet) squadrons stationed at Naval Air Station (NAS) Oceana, VA and Marine Corps Air Station (MCAS) Cherry Point, NC. The analysis supplements the evaluation presented in the Final Environmental Impact Statement (Final EIS) for the Introduction of F/A-18 E/F (Super Hornet) Aircraft to the East Coast of the United States, which was released to the public in July 2003, and is not to be considered independent of the Final EIS. Public hearings will be held to provide information and receive oral and written comments on the DSEIS. Federal, state, and local agencies, and interested individuals are invited to be present or represented at hearings.

DATES AND ADDRESSES: Six public hearings will be held. Each scheduled public hearing will be preceded by an open information session to allow interested individuals to review information presented in the DSEIS. DON representatives will be available during the information session to provide clarification as necessary related to the DSEIS. Each information session will occur from 4:30 p.m. to 6:30 p.m., followed by the formal public hearing from 7 p.m. to 10 p.m. Public hearings have been scheduled at the following dates and locations:

Monday, March 19, 2007, Mattamuskeet Elementary School, 60 Juniper Bay Road, Swan Quarter, NC.

Tuesday, March 20, 2007, Bertie High School, 715 U.S. Highway 13 North, Windsor, NC.

Wednesday, March 21, 2007, Perquimans County High School, 305 Edenton Road, Hertford, NC.

Thursday, March 22, 2007, Craven County Community College, Orringer Hall, 800 College Court, New Bern, NC.

Tuesday, April 3, 2007, Beaufort Community College, 5337 U.S. Highway 264 East, Washington, NC.

Wednesday, April 4, 2007, Vernon G. James Research and Extension Center, North Carolina State University, 207 Research Station Road, Plymouth, NC.

FOR FURTHER INFORMATION CONTACT: Naval Facilities Engineering Command Atlantic, OLF SEIS PM, Code EV2, 6506 Hampton Blvd., Norfolk, VA, facsimile 757-322-4894.

SUPPLEMENTARY INFORMATION: The DON has prepared and filed with the EPA the DSEIS for the Introduction of F/A-18 E/F (Super Hornet) Aircraft to the East Coast of the United States (Construction and Operation of an Outlying Landing Field) in accordance with the requirements of the National Environmental Policy Act (NEPA) of 1969 (42 U.S.C. Sections 4321-4345) and its implementing regulations (40 CFR parts 1500-1508).

A Notice of Intent for this DSEIS was published in the Federal Register on June 24, 2005 (70 FR 36556). The DON is lead agency for the proposed action with the U.S. Fish and Wildlife Service serving as a cooperating agency.

The proposed action is to construct and operate an OLF to support FCLP operations of Super Hornet squadrons stationed at NAS Oceana, VA and MCAS Cherry Point, NC. This is a component of the proposed action evaluated in the Final EIS to provide facilities and functions to support the homebasing and operation of these squadrons. A Record of Decision (ROD) on the homebasing and operation of the Super Hornet squadrons was published in the Federal Register on September 10, 2003 (68 FR 53353). The ROD documented the DON's decision to homebase eight Super Hornet fleet squadrons and the Fleet Replacement Squadron (FRS) at NAS Oceana, and two fleet squadrons at MCAS Cherry Point, and to construct an OLF between the two air stations in Washington County, NC (Site C). In January 2004, the DON's decision to construct and operate an OLF at Site C was challenged under the Administrative Procedure Act (5 U.S.C. Section 551 et seq.). On February 18, 2005, the U.S. District Court for the Eastern District of North Carolina held that the Final EIS was deficient and enjoined the DON from taking any further activity associated with the planning, development, or construction of the OLF at Site C until the DON fully complied with NEPA regarding construction and operation of an OLF. On September 7, 2005, the U.S. Court of Appeals for the Fourth Circuit affirmed, in part, the decision of the district court. This SDEIS addresses those areas identified by the courts that require additional analysis. These include: (1) Evaluation of potential impacts to migratory waterfowl and the Pocosin Lakes National Wildlife Refuge; (2) evaluation of impacts associated with surge operations; (3) identification and evaluation of mitigative measures; and (4) evaluation of cumulative impacts of the operation of the OLF and other military uses of airspace in North Carolina. Additional analysis of the existing and projected noise environment was warranted given the comprehensive scope of the impact of the proposed action on migratory waterfowl. Analysis of other resource areas was warranted to address federal permit and approval requirements (i.e., wetlands, and threatened and endangered species). Furthermore, an additional analysis of relevant socioeconomic factors was conducted to evaluate the land acquisition strategy.

The DON's decision to homebase ten Super Hornet fleet squadrons and the FRS on the East Coast was not reevaluated. That aspect of the DON's proposed action, including aircraft operations, personnel transitions, and new construction and renovation to support the Super Hornet squadrons is being implemented at NAS Oceana and MCAS Cherry Point.

The five alternative OLF sites in Northeastern North Carolina that were evaluated in the Final EIS to support homebasing of the Super Hornet squadrons at NAS Oceana and MCAS Cherry Point are considered in the DSEIS, in addition to the no-action alternative. These are Site A in Perquimans County, Site B in Bertie County, Site C in Washington County, Site D in Hyde County, and Site E in Craven County. The Navy's preferred alternative for construction and operation of an OLF is Site C, in Washington County, NC.

The DSEIS has been distributed to various Federal, state, and local agencies, as well as other interested individuals and organizations. In addition, copies of the DSEIS have been distributed to the following libraries and publicly accessible facilities for public review:

Bath Community Library, 100 Carteret Street, Bath, NC.

Beaufort/Hyde/Martin Regional Library, Old Court House, 158 N. Market Street, Washington, NC.

Belhaven Public Library, 333 E. Main Street, Belhaven, NC.

George H. & Laura E. Brown Library, 122 Van Norden Street, Washington, NC.

Havelock-Craven County Library, 301 Cunningham Boulevard, Havelock, NC.

Hazel W. Guilford Memorial Library, 524 Main Street, Aurora, NC.

Lawrence Memorial Library, 204 E. Dundee Street, Windsor, NC.

Mattamuskeet Public School Library, 20418 U.S. Route 264, Swan Quarter, NC.

New Bern Craven County Public Library, 400 Johnson Street, New Bern, NC.

Perquimans County Library, 110 West Academy, Hertford, NC.

Vernon James Research and Extension Center Library, North Carolina State University, 207 Research Station Road, Plymouth, NC.

Washington County Library, 201 East Third Street, Plymouth, NC.

Chesapeake Central Library, 298 Cedar Road, Chesapeake, VA.

Virginia Beach Central Library, 4100 Virginia Beach Boulevard, Virginia Beach, VA.

Craven County Planning Department, 2828 Neuse Boulevard, New Bern, NC.

Bertie County Manager's Office, 106 Dundee Street, Windsor, NC.

Washington County Manager's Office, 116 Adams Street, Plymouth, NC.

Perquimans County Manager's Office, 128 North Church Street, 2d Floor, Hertford, NC.

Hyde County Manager's Office, 1372 Main Street, Swan Quarter, NC.

An electronic copy of the DSEIS is also available for public viewing at http://www.olfseis.com. Requests for single copies of the DSEIS (on CD-ROM) or its Executive Summary may be made online at http://www.olfseis.com or by calling 1-866-615-6477.

Federal, state, and local agencies, as well as interested parties, are invited and encouraged to be present or represented at the hearings. To ensure the accuracy of the record, all statements presented orally at the public hearings should be submitted in writing. All comments will become part of the public record and will be responded to in the Final Supplemental Environmental Impact Statement (FSEIS). Equal weight will be given to oral and written statements.

In the interest of available time, and to ensure all who wish to give an oral statement at the public hearings have the opportunity to do so, each speaker's comments will be limited to three minutes. If a longer statement is to be presented, it should be summarized at the public hearing and the full text submitted in writing either at the hearing or mailed or faxed to: Commander, Naval Facilities Engineering Command Atlantic, Attn: OLF SEIS Project Manager, 6506 Hampton Blvd., Norfolk, VA 23508-1278, facsimile 757-322-4894.

Residents from the county where the public hearing is being held will be given first priority to speak publicly, to ensure that county's residents have an opportunity to make verbal comments. Residents will be required to sign in to speak. Comments can be made in the following ways: (1) Oral statements/written comments at the public hearings or (2) written comments mailed or faxed to address/fax number in this notice or submitted via the Web site at http://www.olfseis.com.

All written comments postmarked by April 24, 2007, will become a part of the official public record and will be responded to in the FSEIS.

Dated: February 15, 2007.
M.A. Harvison,
Lieutenant Commander, Judge Advocate General's Corps, U.S. Navy, Federal Register Liaison Officer.

[FR Doc. E7-3045 Filed 2-22-07; 8:45 am]

BILLING CODE 3810-FF-P